NATIONAL SCIENCE FOUNDATION (NSF)

National Science Board; Roundtable Discussion on Cost Sharing

Date and Time: December 7, 2007; 8 a.m. to 4:30 p.m.

ADDRESSES: National Science Foundation, 4201 Wilson Blvd., Room 1235, Arlington, VA 22230. All visitors must report to the NSF visitor desk at the 9th and N. Stuart Streets entrance to receive a visitor's badge.

FOR FURTHER INFORMATION CONTACT: Jennifer Richards, National Science Board Office, Telephone: (703) 292-7000, e-mail: jlrichar@nsf.gov. Please refer to the National Science Board Web site (http://www.nsf.gov/nsb) for updated Agenda.

Status: This Roundtable Discussion will be open to the public.

Provisional Agenda

Roundtable Discussion on Cost Sharing

8 a.m. Welcoming Remarks

• Dr. Kelvin K. Droegemeier, National Science Board Member and Chair, Board Task Force on Cost Sharing

8:05 a.m. Motivation, Purpose and Goals

• Dr. Droegemeier

8:15 a.m. Process and Logistics for Board Workshops

• Dr. Michael P. Crosby, Executive Director, National Science Board

8:25 a.m. Introduction of Participants

8:35 a.m. Remarks: History of Cost Sharing in Federally Funded Research and Key Issues in Cost Sharing

Speaker: Robert J. Hardy, Director, Contracts and Intellectual Property Management, Council on Governmental Relations (RMR Author)*

9:20 a.m. Direct and Indirect Impacts of Cost Sharing on the University Research Enterprise

Discussion Moderator: Howard Gobstein, Vice President for Research and Science Policy, NASULGC*

Discussion Item: The Board is examining the effects of cost sharing requirements on the academic R&D enterprise and the extent to which cost sharing impedes or promotes strategic financial investments in research by colleges and universities. Of further interest is the impact of cost sharing on the overall costs of academic R&D borne by universities and colleges.

10:10 a.m. Break

10:25 a.m. The Nature and Role of Cost Sharing in the Proposal Decision Process

Discussion Moderator: Arthur Bienenstock, Special Assistant to the President for SLAC and Federal Research Policy, Stanford University (RMR Author)*

Discussion Item: The Board is examining the fundamental philosophy of mandated and voluntary cost sharing in Federally funded research. Regarding voluntary cost sharing (or institutional commitment), the Board is specifically examining the extent to which these resources should be regulated and monitored, and the extent to which they should be considered as part of the peer review or agency decision processes if they bear on the investigator's or institution's ability to complete the proposed work.

11:15 a.m Lunch

12:30 p.m. Impacts of Cost Sharing on University-Industry Research Partnerships

Discussion Moderator: Dan Mote, Co-Chair, Government-University-Industry Research Roundtable*

Discussion Item: The Board is examining whether cost sharing policies can be tailored for effective application to specific types of programs (such as those involving industry), and whether the elimination of non-statutory cost sharing has had a positive or negative impact on those specific types of programs.

1:20 p.m. Reporting and Auditing of Cost Sharing: Agency and Institutional Perspectives

Discussion Moderators: Sarah Wasserman, former Assistant Vice Chancellor for Research at the University of Illinois at Urbana-Champaign*

Discussion Item: The Board is examining the nature and magnitude of the challenges for both Federal agencies and grantee institutions in tracking and reporting both mandatory and voluntary cost sharing.

2:10 p.m. Break

2:25 p.m. Preventing the “Have”/“Have Not” Gap in University Competition for Federal Research Grants

Discussion Moderator: Irwin Feller, Professor Emeritus of Economics, Pennsylvania State University*

Discussion Item: The Board is examining the extent to which cost sharing impacts participation in Federal research funding opportunities.

3:15 p.m. Roundtable Discussion: Options for Revision to Board Cost Sharing Policy for NSF

Discussion Moderator: Dr. Droegemeier

4:15 p.m. Summary and Next Steps

4:30 p.m. Adjourn

* pending acceptance of invitation

Note: This roundtable discussion will not involve National Science Board deliberations and is not subject to 5 U.S.C. 552b.

Michael P. Crosby,
Executive Officer and NSB Office Director.

[FR Doc. E7-23323 Filed 11-30-07; 8:45 am]

BILLING CODE 7555-01-P